DEPARTMENT OF LABOR

Occupational Safety and Health Administration

29 CFR Part 1915

[Docket No. S-051]

RIN 1218-AB51

Fire Protection in Shipyard Employment

AGENCY: Occupational Safety and Health Administration (OSHA), Labor.

ACTION: Notice of Proposed Rulemaking; correction.

SUMMARY: In the December 11, 2002, Federal Register, OSHA published a proposed standard for Fire Protection in Shipyard Employment, Subpart P of 29 CFR Part 1915 (67 FR 76214). The docket number that was published in the “Supplementary Information: Addresses” section of the preamble, H-011G, is incorrect. OSHA is correcting these errors.

FOR FURTHER INFORMATION CONTACT: Ms. Bonnie Friedman, Office of Information and Consumer Affairs, Occupational Safety and Health Administration, Room N3647, U.S. Department of Labor, 200 Constitution Ave., NW., Washington, DC 20210 (202-219-8148).

SUPPLEMENTARY INFORMATION:

Correction of Publication

On page 76214, in the first and second columns, the docket number “H-011G” is corrected to read “S-051” both places it appears.

Authority and Signature

This document was prepared under the direction of John L. Henshaw, Assistant Secretary of Labor for Occupational Safety and Health, U.S. Department of Labor, 200 Constitution Avenue, NW., Washington, DC 20210.

The actions in this document are taken pursuant to sections 4, 6, and 8 of the Occupational Safety and Health Act of 1970 (29 U.S.C. 653, 655, 657), Secretary of Labor's Order No. 5-2002 (67 FR 65008), and 29 CFR part 1911.

Signed at Washington, DC this 30th day of December, 2002.
John L. Henshaw,
Assistant Secretary of Labor.

[FR Doc. 03-401 Filed 1-13-03; 8:45 am]

BILLING CODE 4510-26-P